ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, March 7-9, 2011, at the times and location noted below.

DATES: The schedule of events is as follows:

Monday, March 7, 2011

9:30-Noon Technical Programs Committee.

1:30-2 p.m. Budget Committee.

2:15-3 Planning and Evaluation Committee.

3:15-4 Presentation from the Bureau of Engraving and Printing on accessible currency.

Tuesday, March 8, 2011

9:30-4 p.m. Ad Hoc Committee Meetings: Closed to Public.

Wednesday, March 9, 2011

9:30-11 a.m. Presentation on the Implementation of Section 508.

1:30-3 p.m. Board Meeting.

ADDRESSES: All meetings will be held at the Access Board Conference Room, 1331 F Street, NW., Suite 800, Washington, DC 20004.

FOR FURTHER INFORMATION CONTACT: For further information regarding the meetings, please contact David Capozzi, Executive Director, (202) 272-0010 (voice); (202) 272-0082 (TTY).

SUPPLEMENTARY INFORMATION: At the Board meeting scheduled on the afternoon of Wednesday, March 9, 2011, the Access Board will consider the following agenda items:

• Approval of the draft January 12, 2011 meeting minutes.

• Budget Committee Report.

• Planning and Evaluation Committee Report.

• Technical Programs Committee Report.

• Ad Hoc Committee Reports

○ Emergency Transportable Housing—Notice of Proposed Rulemaking (vote).

○ Election of Officers.

○ Executive Director's Report.

○ Public Comment, Open Topics.

All meetings are accessible to persons with disabilities. An assistive listening system, computer assisted real-time transcription (CART), and sign language interpreters will be available at the Board meeting and committee meetings. Persons attending Board meetings are requested to refrain from using perfume, cologne, and other fragrances for the comfort of other participants (see http://www.access-board.gov/about/policies/fragrance.htm for more information).

David M. Capozzi,
Executive Director.

[FR Doc. 2011-4246 Filed 2-24-11; 8:45 am]

BILLING CODE 8150-01-P